DEPARTMENT OF LABOR

Mine Safety and Health Administration

[OMB Control No. 1219-0147]

Proposed Extension of Information Collection: Coal Mine Dust Sampling Devices

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Coal Mine Dust Sampling Devices.”

DATES: All comments must be received on or before September 2, 2025.

ADDRESSES: Comments concerning the information collection requirements of this notice may be sent by any of the methods listed below. Please note that late comments received after the deadline will not be considered.

• Federal E-Rulemaking Portal: https://www.regulations.gov. Follow the on-line instructions for submitting comments for docket number MSHA-2025-0052.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: Jessica Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

The Paperwork Reduction Act of 1995 (PRA) governs paperwork burdens imposed by Federal agencies on the public for using identical questions to collect information from 10 or more persons. The PRA defines paperwork burden is defined in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill the statutory mandates to promote miners' health and safety, MSHA requires the information under the ICR titled “Coal Mine Dust Sampling Devices.” The information collection is intended to determine if coal mine dust sampling devices meet established safety criteria for use in coal mines.

Coal mine sampling devices include continuous personal dust monitors (CPDMs) and coal mine dust personal sampler units (CMDPSUs). CPDMs and CMDPSUs measure the concentration of respirable dust in coal mines. These devices must be designed and constructed for coal miners to wear and operate without impeding their ability to perform work safely and effectively. They must be durable to perform reliably in the normal working conditions of coal mines.

Under 30 CFR part 74, the requirements for approval of coal mine dust sampling devices are set forth for determining the concentrations of respirable dust in coal mine atmospheres. It also outlines procedures for applying for approval and testing.

Burden costs associated with the ICR include:

1. Manufacturers preparing and submitting applications for MSHA's approval of the pump unit of a CMDPSU;

2. Manufacturers preparing and submitting applications for MSHA's approval of intrinsic safety testing of a CPDM;

3. Manufacturers providing CMDPSU or CPDM devices to MSHA;

4. MSHA issuing certificates of approval or disapproval;

5. Manufacturers keeping records; and

6. Manufacturers making changes after certification.

Authorization and the associated rule text are described below.

1. Manufacturers Preparing and Submitting Applications for Pump Units of CMDPSUs

a. MSHA Testing Pump Units of CMDPSUs

Under 30 CFR 74.5(b) and 74.13(a), MSHA will conduct tests and evaluations to determine whether the pump unit of a CMDPSU that is submitted for approval complies with the applicable permissibility provisions.

b. Manufacturers Preparing and Submitting Applications for CMDPSUs

Under 30 CFR 74.13(a), the applicant must submit a written application to MSHA. Each copy of the application must be accompanied by complete scale drawings, specifications, and a description of materials. One complete pump unit of a CMDPSU must be submitted to MSHA with the application.

Under 30 CFR 74.13(c), complete drawings and specifications accompanying each copy of the application must be fully detailed to identify the design of the CMDPSU or pump unit and to disclose the dimensions and materials of all component parts.

Under 30 CFR 74.6, the applicant must describe the way in which each lot of components will be sampled and tested to maintain its quality prior to assembly of each sampler unit. In order to assure that the quality of the CMDPSU will be maintained in production through adequate quality control procedures, MSHA reserves the right to have their qualified personnel inspect each applicant's control-test equipment procedures and records and to interview the employees who conduct the control tests. Two copies of the results of any tests made by the applicant on the CMDPSU or the pump unit must accompany an application.

2. Manufacturers Preparing and Submitting Applications for Intrinsic Safety Testing of CPDMs

a. Manufacturers Testing Intrinsic Safety of CPDMs

Under 30 CFR 74.11(a), the applicant must conduct tests to determine whether a CPDM that is submitted for approval meets the requirements, with the exception of durability testing, which must be conducted by NIOSH. Applicant testing must be performed by an independent testing entity approved by NIOSH.

Under 30 CFR 74.11(d), the applicant must submit the CPDM to MSHA for testing and evaluation for intrinsic safety, to determine whether the electronic components of the CPDM meet the applicable permissibility provisions.

Under 30 CFR 74.13(b), testing of a CPDM will be performed by the applicant to determine whether it meets the requirements.

Under 30 CFR 18.68(a), tests for intrinsic safety will be conducted under the general concepts of “intrinsically safe”, which is defined in section 18.2 as “incapable of releasing enough electrical or thermal energy under normal or abnormal conditions to cause ignition of a flammable mixture of methane or natural gas and air of the most easily ignitable composition.” Further tests or requirements for intrinsic safety may be added at any time if features of construction or use or both indicate them to be necessary.

b. Manufacturers Preparing and Submitting Applications for CPDMs

Under 30 CFR 74.13(b), the applicant must submit a written application in duplicate to MSHA. Each copy of the application must be accompanied by complete scale drawings, specifications, a description of materials, and a copy of the testing protocol and test results which were provided by an independent testing entity. One complete CPDM device must be sent to MSHA with the application.

Under 30 CFR 74.13(c), complete drawings and specifications accompanying each copy of the application must be fully detailed to identify the design of the CPDM and to disclose the dimensions and materials of all component parts.

Under 30 CFR 74.9(a)(1)(i), the applicant must establish and maintain a quality control system that assures that CPDM devices produced under the applicant's certificate of approval meet the required specifications and are reliable, safe, effective, and otherwise suitable for their intended use. To establish and to maintain an approval, the applicant must submit with the application a copy of the most recent registration under International Organization for Standardization (ISO) Q9001-2000, American National Standard, Quality Management Systems-Requirements.

3. Manufacturers Providing CMDPSU or CPDM Devices

Under 30 CFR 74.16(a), as part of the permanent record of the approval application process, MSHA will retain a complete CMDPSU or CPDM, as appropriate, that has been tested and certified. Material not required for record purposes will be returned to the applicant at the applicant's request and expense upon receipt of written shipping instructions by MSHA.

4. MSHA Issuing Certificates of Approval or Notices of Disapproval

Under 30 CFR 74.14(a), upon completion of the testing of the pump unit of a CMDPSU or after review of testing protocols and testing results for the CPDM, MSH A must issue to the applicant either a certificate of approval or a written notice of disapproval. If a certificate of approval is issued, no test data or detailed results of tests will accompany such approval. If a notice of disapproval is issued, it will be accompanied by details of the defects, resulting in disapproval, with a view to possible correction.

5. Manufacturers Recordkeeping Certificates

Under 30 CFR 74.14(b), a certificate of approval will be accompanied by a list of the drawings and specifications covering the details of design and construction of the pump unit of a CMDPSU or of the CPDM, upon which the certificate of approval is based. The applicant must keep exact duplicates of the drawings and specifications submitted to MSHA relating to the pump unit of the CMDPSU or the CPDM, which has received a certificate of approval. The approved drawings and specifications must adhere exactly to the production of the certified CMDPSU including the pump unit, or of the CPDM, for commercial purposes. In addition, the applicant must observe the procedures for, and keep records of, the control of component parts as MSHA may in writing require as a condition of approval.

6. Manufacturers Making Changes After Certification

Under 30 CFR 74.17(b), if a change is proposed in a pump unit of a certified CMDPSU or in electrical components of a CPDM, the approval of MSHA with respect to intrinsic safety must be obtained in accordance with the required procedures.

Mine operators' burden and costs associated with recordkeeping and reporting requirements of CMDPSU and CPDM sampling are included in a separate ICR under OMB Control Number 1219-0011 titled “Respirable Coal Mine Dust Sampling”.

II. Desired Focus of Comments

MSHA is soliciting comments concerning the proposed information collection titled “Coal Mine Dust Sampling Devices.” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The ICR is available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the information collection requirements may be directed to the person listed in the FOR FURTHER INFORMATION section of this notice.

III. Current Actions

This ICR concerns provisions for Coal Mine Dust Sampling Devices. MSHA has updated the data with respect to the number of respondents, responses, time burden, and burden costs supporting this ICR from the previous ICR.

Type of Review: Extension, without change, of a currently approved collection.

Agency: Mine Safety and Health Administration.

OMB Number: 1219-0147.

Affected Public: Business or other for-profit entity.

Number of Annual Respondents: 1.

Frequency: On Occasion.

Number of Annual Responses: 1.

Annual Time Burden: 41 hours.

Annual Other Burden Costs: $301,810.

Comments submitted in response to this notice will be summarized and included in the request for Office of Management and Budget approval of the proposed ICR; they will become a matter of public record and be available at https://www.reginfo.gov.

Jessica Senk,
Certifying Officer, Mine Safety and Health Administration.

[FR Doc. 2025-12438 Filed 7-2-25; 8:45 am]

BILLING CODE 4510-43-P